FEDERAL MARITIME COMMISSION

Notice of Agreements Filed

The Commission hereby gives notice of the filing of the following agreement under the Shipping Act of 1984. Interested parties may submit comments on the agreement to the Secretary, Federal Maritime Commission, Washington, DC 20573, within twelve days of the date this notice appears in the Federal Register. A copy of the agreement is available through the Commission's Web site (www.fmc.gov) or by contacting the Office of Agreements at (202) 523-5793 or tradeanalysis@fmc.gov.

Agreement No.: 012179-001.

Title: Hoegh/Farrell Space Charter and Cooperative Working Agreement.

Parties: Hoegh Autoliners AS and Farrell Lines Incorporated.

Filing Party: Wayne R. Rohde, Esq.; Cozen O'Connor; 1200 19th Street NW.; Washington, DC 20036.

Synopsis: The amendment extends the duration of the agreement through September 30, 2025.

Agreement No.: 012360.

Title: “K” Line/Volkswagen Konzernlogistik GmbH & Co. OHG Space Charter Agreement.

Parties: Kawasaki Kisen Kaisha, Ltd and Volkswagen Konzernlogistik GmbH & Co. OHG.

Filing Party: Eliot J. Halperin, Esq.; Manelli Selter PLLC; 2000 M Street NW., 7th Floor; Washington, DC 20036-3307.

Synopsis: The Agreement authorizes “K” Line to charter space to Volkswagen in the trade between the U.S. on the one hand, and Mexico, Germany and Canada on the other hand.

Agreement No.: 012361.

Title: ELJSA/CMA CGM North West European Continent—U.S. East Coast Service Slot Charter Agreement.

Parties: Evergreen Line Joint Service Agreement and CMA CGM S.A.

Filing Party: Paul M. Keane, Esq.; Cichanowicz, Callan, Keane, Vengrow & Textor, LLP; 61 Broadway, Suite 3000; New York, NY 10006-2802.

Synopsis: The agreement authorizes ELJSA to charter space to CMA CGM in the trade between ports in Belgium, Germany, Netherlands, and France on the one hand, and U.S. East Coast on the other hand.

By Order of the Federal Maritime Commission.
Dated: September 25, 2015.
Karen V. Gregory,
Secretary.

[FR Doc. 2015-24723 Filed 9-29-15; 8:45 am]

BILLING CODE 6731-AA-P